DEPARTMENT OF THE INTERIOR

Bureau of Indian Affairs

Land Acquisitions: Pueblo of Santa Clara

AGENCY: Bureau of Indian Affairs, Interior.

ACTION: Notice of final agency determination to take land into trust.

SUMMARY: The Assistant Secretary—Indian Affairs, made a final agency determination to acquire approximately 1,219.24 acres of land into trust for the Pueblo of Santa Clara on January 27, 2012.

FOR FURTHER INFORMATION CONTACT: Sandra Ray, Realty Specialist, Southwest Regional Office, Bureau of Indian Affairs, 1001 Indian School Road NW., Albuquerque, NM 87104-2303; Telephone (505) 563-3337, sandy.ray@bia.gov.

SUPPLEMENTARY INFORMATION: This notice is published in the exercise of authority delegated by the Secretary of the Interior to the Assistant Secretary—Indian Affairs by 209 Departmental Manual 8.1.

This acquisition is mandatory under 25 U.S.C. 2216(c); the Pueblo de San Ildefonso Claims Settlement Act of 2005 (Pub. L. 109-286) dated September 27, 2006. The acres are described as follows:

Those certain lands situated in Rio Arriba County, New Mexico, and being more particularly described as follows:

New Mexico Principal Meridian

T. 20 N., R. 7 E.,

Sec. 17, S½NE¼SW¼, SW¼NW¼SW¼, SE¼NW¼SW¼, NW¼NE¼SE¼, NE¼NW¼SE¼, S½N½SE¼, N½SE¼SE¼;

All of the above-described land containing 120.00 acres, more or less, as derived from the official General Land Office plat of survey for T.20 N., R. 7 E., N.M.P.M., New Mexico, approved June 13, 1883, and filed in the records of the U.S. Department of the Interior, Bureau of Land Management, New Mexico State Office, in Santa Fe, New Mexico.

Together With

T. 20 N., R. 7 E.,

Sec. 17, lots 1 to 8, inclusive;

Sec. 18, lots 5 to 12, inclusive;

Sec. 19, lots 12 to 17, inclusive, lots 19, 21, 23, all that portion of Tract 37 within sec. 19, all that portion of Tract 38 within sec. 19, all that portion of Tract 39 within sec. 19, and all that portion of Tract 40 within sec. 19;

Sec. 20, lots 6, 7, 9 and 15, all that portion of Tract 39 within sec. 20, all that portion of Tract 40 within sec. 20, and all of Tract 41;

Sec. 21, lots 8, 9, 11 and 14;

All of the above-described land containing 1,099.24 acres, more or less, as derived from the official Bureau of Land Management plat of survey for T. 20 N., R. 7 E., N.M.P.M., New Mexico, approved November 26, 2008, and filed in the records of the U.S. Department of the Interior, Bureau of Land Management, New Mexico State Office, in Santa Fe, New Mexico.

The Total Area, as derived from the above-described survey plats, containing 1,219.24 acres, more or less.

The determination of the Assistant Secretary—Indian Affairs that this is a mandatory acquisition is final for the Department and can only be appealed to the Federal District Court. This notice will serve as the final agency determination to take the land into trust and that the Secretary shall acquire title to the land no sooner than 30 days following publication of this document in the Federal Register.

Dated: June 25, 2012.
Donald E. Laverdure,
Acting Assistant Secretary—Indian Affairs.

[FR Doc. 2012-16416 Filed 7-3-12; 8:45 am]

BILLING CODE 4310-W7-P